ENVIRONMENTAL PROTECTION AGENCY

40 CFR Part 52

[EPA-R05-OAR-2019-0216; FRL-10002-25-Region 5]

Air Plan Approval; Ohio; Second Limited Maintenance Plans for 1997 Ozone NAAQS

AGENCY: Environmental Protection Agency (EPA).

ACTION: Final rule.

SUMMARY: Pursuant to the Clean Air Act (CAA), the Environmental Protection Agency (EPA) is approving as a revision to the Ohio State Implementation Plan (SIP), the State's plan for maintaining the 1997 ozone National Ambient Air Quality Standard (NAAQS or standard) through 2028. On April 12, 2019, the Ohio Environmental Protection Agency submitted the 1997 ozone NAAQS Limited Maintenance Plan (LMP) for the Canton-Massillon (Stark County), Lima (Allen County), and Toledo (Lucas and Wood Counties) areas and the Ohio portion of the Parkersburg-Marietta [OH-WV] (Washington County), Steubenville-Weirton [OH-WV] (Jefferson County), Wheeling [OH-WV] (Belmont County), and Youngstown-Warren-Sharon [OH-PA] (Columbiana, Mahoning, and Trumbull Counties) multi-state areas. The effect of this action makes certain commitments related to maintenance of the 1997 ozone NAAQS in these areas federally enforceable as part of the Ohio SIP.

DATES: This final rule is effective on December 19, 2019.

ADDRESSES: EPA has established a docket for this action under Docket ID No. EPA-R05-OAR-2019-0216. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays. We recommend that you telephone Charles Hatten, Environmental Engineer, at (312) 886-6031 before visiting the Region 5 office.

FOR FURTHER INFORMATION CONTACT: Charles Hatten, Environmental Engineer, Control Strategies Section, Air Programs Branch (AR-18J), Environmental Protection Agency, Region 5, 77 West Jackson Boulevard, Chicago, Illinois 60604, (312) 886-6031, hatten.charles@epa.gov.

SUPPLEMENTARY INFORMATION: Throughout this document, the terms “we”, “us”, and “our” refer to EPA.

I. What is being addressed in this document?

This rule approves Ohio's April 12, 2019 submission to provide for the maintenance of the 1997 ozone NAAQS LMPs for the Canton-Massillon (Stark County), Lima (Allen County), and Toledo (Lucas and Wood Counties) areas and the Ohio portion of the Parkersburg-Marietta [OH-WV] (Washington County), Steubenville-Weirton [OH-WV] (Jefferson County), Wheeling [OH-WV] (Belmont County), and Youngstown-Warren-Sharon [OH-PA](Columbiana, Mahoning, and Trumbull Counties) multi-state areas through 2028. The background for this action is discussed in detail in EPA's notice of proposed rulemaking (NPRM), dated August 19, 2019 (84 FR 42881).

II. What comments did we receive on the proposed rule?

In the NPRM, EPA provided a 30-day review and comment period for the proposed rule. The comment period ended on September 18, 2019. We received no adverse comments on the proposed rule.

III. What action is EPA taking?

EPA is approving, as a revision to the Ohio SIP, the State's LMPs for maintaining the 1997 ozone NAAQS for Canton-Massillon (Stark County), Lima (Allen County), Toledo (Lucas and Wood Counties) areas, and the Ohio portion of the Parkersburg-Marietta (Washington County), Steubenville-Weirton (Jefferson County), Wheeling (Belmont County), Youngstown-Warren-Sharon (Columbiana, Mahoning, and Trumbull Counties) multi-state areas through 2028.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because it is not a significant regulatory action under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address disproportionate human health or environmental effects with practical, appropriate, and legally permissible methods under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen oxides, Ozone, Volatile organic compounds.

Dated: November 6, 2019.
Cathy Stepp,
Regional Administrator, Region 5.

40 CFR part 52 is amended as follows:

PART 52—APPROVAL AND PROMULGATION OF IMPLEMENTATION PLANS

1. The authority citation for part 52 continues to read as follows:

Authority: 42 U.S.C. 7401 et seq.

2. In § 52.1870, the table in paragraph (e) is amended under the sub-heading “Summary of Criteria Pollutant Maintenance Plan” by revising all the entries for Ozone to read as follows:

§ 52.1870 Identification of plan.

* * * * *

(e) * * *

EPA—Approved Ohio Nonregulatory and Quasi-Regulatory Provisions
Title | Applicable geographical or non-attainment area | State date | EPA approval | Comments
* * * * * * *
Summary of Criteria Pollutant Maintenance Plan
Ozone 1-Hour | Cincinnati (Butler, Clermont, Hamilton, and Warren Counties) | 6/28/1999 | 7/5/2000, 65 FR 37879
Ozone 1-Hour | Columbiana County | 3/25/1994 | 3/10/1995, 59 FR 48395
Ozone 1-Hour | Columbus (Franklin, Delaware and Licking Counties) | 1/1/1994 | 4/1/1996, 61 FR 3591
Ozone 1-Hour | Dayton-Springfield (Miami, Montgomery, Clark, and Greene Counties) | 11/8/1993 | 7/5/1995, 60 FR 22289
Ozone 1-Hour | Jefferson County | 3/25/1994 | 3/10/1995, 58 FR 66334
Ozone 1-Hour | Youngstown (Mahoning and Trumbull Counties) and Canton (Stark County) | 3/25/1994 | 4/1/1996, 61 FR 3319
Ozone (8-Hour, 1997) | Canton (Stark County) | 4/12/2019 | 11/19/2019, [insert Federal Register citation]
Ozone (8-Hour, 1997) | Cincinnati (Butler, Clermont, Clinton, Hamilton, and Warren Counties) | 12/14/2009 | 5/11/2010, 75 FR 26118
Ozone (8-Hour, 1997) | Cleveland (Ashtabula, Cuyahoga, Geauga, Lake, Lorain, Medina, Portage, and Summit Counties) | 3/17/2009 | 9/15/2009, 74 FR 47414
Ozone (8-Hour, 1997) | Columbus (Delaware, Fairfield, Franklin, Knox, Licking, and Madison Counties) | 3/17/2009 | 9/15/2009, 74 FR 47404
Ozone (8-Hour, 1997) | Dayton-Springfield (Miami, Montgomery, Clark, and Greene Counties) | 4/12/2019 | 10/1/2019, 84 FR 52001
Ozone (8-Hour, 1997) | Lima (Allen County) | 4/12/2019 | 11/19/2019, [insert Federal Register citation]
Ozone (8-Hour, 1997) | Parkersburg-Marietta (Washington County) | 4/12/2019 | 11/19/2019, [insert Federal Register citation]
Ozone (8-Hour, 1997) | Steubenville-Weirton (Jefferson County) | 4/12/2019 | 11/19/2019, [insert Federal Register citation]
Ozone (8-Hour, 1997) | Toledo (Lucas and Wood Counties) | 4/12/2019 | 11/19/2019, [insert Federal Register citation]
Ozone (8-Hour, 1997) | Wheeling (Belmont County) | 4/12/2019 | 11/19/2019, [insert Federal Register citation]
Ozone (8-Hour, 1997) | Youngstown (Columbiana, Mahoning and Trumbull Counties) | 4/12/2019 | 11/19/2019, [insert Federal Register citation]
Ozone (8-Hour, 2015) | Columbus (Delaware, Fairfield, Franklin, and Licking Counties | 4/23/2019 | 8/21/2019, 84 FR 43508
* * * * * * *

[FR Doc. 2019-24937 Filed 11-18-19; 8:45 am]

BILLING CODE 6560-50-P